DEPARTMENT OF TRANSPORTATION

Federal Aviation Administration

Advisory Circular; Propeller Instructions for Continued Airworthiness

AGENCY: Federal Aviation Administration, DOT.

ACTION: Notice of availability of advisory circular.

SUMMARY: The Federal Aviation Administration (FAA) announces the availability of advisory circular (AC) numbers 35.4-1, Propeller Instructions for Continued Airworthiness.

DATES: The Engine and Propeller Directorate, Aircraft Certification Service, issued AC 35.4-1 on November 3, 2003.

FOR FURTHER INFORMATION CONTACT: Jay Turnberg, Engine and Propeller Standards Staff, ANE-110, 12 New England Executive Park, Burlington, MA 01803; telephone: (781) 238-7116; fax: (781) 238-7199; e-mail: jay.turnberg@faa.gov. The subject AC is available on the Internet at the following address: http://www.airweb.faa.gov/rgl.

SUPPLEMENTARY INFORMATION: The FAA published a notice in the Federal Register on January 2, 2003 (68 FR 148) to announce the availability of the proposed AC and invite interested parties to comment.

Background

The propeller type certification process requires the applicant to prepare Instructions for Continued Airworthiness (ICA) under § 35.4. The ICA provide information for proper maintenance that ensures that propellers of that type design are airworthy. This AC addresses preparing ICA for propellers.

(Authority: 49 U.S.C. 106(g), 40113, 44701-44702, 44704.)

Issued in Burlington, Massachusetts, on November 3, 2003.
Peter A. White,
Acting Manager, Engine and Propeller Directorate, Aircraft Certification Service.

[FR Doc. 03-31747 Filed 12-23-03; 8:45 am]

BILLING CODE 4910-13-M